POSTAL SERVICE

Privacy Act of 1974; System of Records

AGENCY: Postal Service™.

ACTION: Notice of modification to existing system of records.

SUMMARY: The United States Postal Service® (Postal Service) is proposing to modify one Customer Privacy Act System of Records. These modifications are being made to implement a credentialing solution to establish and maintain verified, trusted digital identities for customers. Once verified, this solution will enhance customers' access to Postal Service personalized digital services.

DATES: These revisions will become effective without further notice on September 29, 2014 unless comments received on or before that date result in a contrary determination.

ADDRESSES: Comments may be mailed or delivered to the Privacy and Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their amended systems of records in the Federal Register when there is a revision, change, or addition. The Postal Service™ has reviewed these systems of records and has determined that this Customer Privacy Act System of Records should be revised to modify the following entries: categories of individuals covered by the system, categories of records in the system, purpose(s), and retention and disposal.

I. Background

The Postal Service seeks to provide greater security for customers as they utilize the Postal Service's personalized, digital products and services. The Postal Service has 20 million credentialed customers but with minimal assurance of valid, trusted identity. By implementing enhanced credentialing capabilities, we can offer our customers identity verification as they seek to take advantage of personalized postal services online.

II. Rationale for Changes to USPS Privacy Act Systems of Records

The System of Records 910.000 Identity & Document Verification Services is being modified to facilitate the verification of a customer's identity, either through online or in-person identity proofing, for certain USPS online services. This will implement a practical solution to establish and maintain verified digital identities for consumers.

Categories of individuals covered by the system will now encompass any customer who verifies his or her identity through the Postal Service's credentialing service, whether online or in person. With regard to an individual who verifies his or her identify in person, this section will also include the collection of employee logon information for auditing purposes. Purpose(s) will now reflect the credentialing service for customers who apply for that service. Categories of records in the system is being amended to delete a note regarding Social Security numbers and payment information. Although Social Security numbers will be collected and used for purposes of online credentialing, neither Social Security numbers nor payment information will be maintained in this SOR.

Lastly, the changes under retention and disposal will align the Postal Service with Federal Identity, Credential, and Access Management (FICAM) guidance with retention times of the data maintained for credentialed customers. All records related to identity verification will be kept for 7.5 years, unless an individual requests the Postal Service retain the records longer.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected systems are as follows:

USPS 910.000

SYSTEM NAME: Identity and Document Verification Services

Accordingly, for the reasons stated, the Postal Service proposes changes in the existing systems of records as follows:

USPS 910.000

SYSTEM NAME:

Identity and Document Verification Services

CATEGORIES OF INDIVIDUALS COVERED BY THE SYSTEM

[CHANGE TO READ]

Customers who apply for identity and document verification services. Any customer who verifies his or her identity through USPS to access services.

CATEGORIES OF RECORDS IN THE SYSTEM

* * * * *

[CHANGE TO READ]

3. Verification and payment information: Credit and/or debit card information or other account number, government issued ID type and number, verification question and answer, and payment confirmation code.

* * * * *

[CHANGE TO READ]

6. Transaction information: Clerk signature; employee logon; transaction type, date and time, location, source of transaction; product use and inquiries.

* * * * *

PURPOSE(S)

* * * * *

[ADD TEXT]

6. To verify a customer's identity to access services.

* * * * *

RETENTION AND DISPOSAL

* * * * *

[CHANGE TO READ]

6. Records pertaining to identity verification are retained 7.5 years, to align with Federal Identity, Credential, and Access Management (FICAM) guidance unless retained longer by request of the customer.

[RENUMBER REMAINING TEXT]

* * * * *

Stanley F. Mires,
Attorney, Federal Requirements.

[FR Doc. 2014-20627 Filed 8-28-14; 8:45 am]

BILLING CODE 7710-P